DEPARTMENT OF LABOR

Mine Safety and Health Administration

Petition for Modification

AGENCY: Mine Safety and Health Administration, Labor.

ACTION: Notice of petition for modification of existing mandatory safety standard.

SUMMARY: Section 101(c) of the Federal Mine Safety and Health Act of 1977 and 30 CFR Part 44 govern the application, processing, and disposition of petitions for modification. This notice is a summary of a petition for modification filed by the party listed below to modify the application of the existing mandatory safety standard published in Title 30 of the Code of Federal Regulations.

DATES: All comments on the petition must be received by the Office of Standards, Regulations, and Variances on or before September 15, 2008.

ADDRESSES: You may submit your comments, identified by “docket number” on the subject line, by any of the following methods:

1. Electronic mail: Standards-Petitions@dol.gov.

2. Facsimile: 1-202-693-9441.

3. Regular Mail: MSHA, Office of Standards, Regulations, and Variances, 1100 Wilson Boulevard, Room 2349, Arlington, Virginia 22209, Attention: Patricia W. Silvey, Director, Office of Standards, Regulations, and Variances.

4. Hand-Delivery or Courier: MSHA, Office of Standards, Regulations, and Variances, 1100 Wilson Boulevard, Room 2349, Arlington, Virginia 22209, Attention: Patricia W. Silvey, Director, Office of Standards, Regulations, and Variances.

We will consider only comments postmarked by the U.S. Postal Service or proof of delivery from another delivery service such as UPS or Federal Express on or before the deadline for comments. Individuals who submit comments by hand-delivery are required to check in at the receptionist desk on the 21st floor.

Individuals may inspect a copy of the petition and comments during normal business hours at the address listed above.

FOR FURTHER INFORMATION CONTACT: Lawrence D. Reynolds, Acting Deputy Director, Office of Standards, Regulations, and Variances at 202-693-9449 (Voice), reynolds.lawrence@dol.gov (E-mail), or 202-693-9441 (Telefax), or contact Barbara Barron at 202-693-9447 (Voice), barron.barbara@dol.gov (E-mail), or 202-693-9441 (Telefax). [These are not toll-free numbers.]

SUPPLEMENTARY INFORMATION:

I. Background

Section 101(c) of the Federal Mine Safety and Health Act of 1977 (Mine Act) allows the mine operator or representative of miners to file a petition to modify the application of any mandatory safety standard to a coal or other mine if the Secretary determines that: (1) An alternative method of achieving the result of such standard exists which will at all times guarantee no less than the same measure of protection afforded the miners of such mine by such standard; or (2) that the application of such standard to such mine will result in a diminution of safety to the miners in such mine. In addition, the regulations at 30 CFR 44.10 and 44.11 establish the requirements and procedures for filing petitions for modifications.

II. Petition for Modification

Docket Number: M-2008-001-M.

Petitioner: EP Minerals, LLC, an Eagle-Picher Company, 2360 Grahamm Blvd., Vale, Oregon 97918.

Mine: Clark Mill, MSHA I.D. 26-00677, located in Storey County, Nevada; Colado Plant, MSHA I.D. No. 26-00680, located in Pershing County, Nevada; and Celatom Plant, MSHA I.D. No. 35-03236, located in Malheur County, Oregon.

Regulation Affected: 30 CFR 56.20001 (Intoxicating beverages and narcotics).

Modification Request: The petitioner requests a modification of the existing standard to permit the use of beer in their laboratories to test a filtration product used by breweries. The laboratory tests are performed by dissolving the product in degassed beer to ensure that it will not affect the breweries' product. The petitioner states that: (1) Their beer is ordered by the leading lab technician or other responsible party, purchased at the local grocery outlet by their purchaser, taken to the lab and stored in a back room, and accessible to only a few authorized people; and (2) the beer is closely tracked to determine how much is on hand and how much is used. The petitioner asserts that the proposed alternative method will provide the same degree of safety as the existing standard.

Lawrence D. Reynolds,
Acting Deputy Director, Office of Standards, Regulations, and Variances.

[FR Doc. E8-18924 Filed 8-14-08; 8:45 am]

BILLING CODE 4510-43-P